DEPARTMENT OF STATE

[Public Notice: 8952]

Notice of Meeting of Advisory Committee on International Law

A meeting of the Department of State's Advisory Committee on International Law will take place on Monday, December 15, from 10:00 a.m. to 5:00 p.m. at the George Washington University Law School, Michael K. Young Faculty Conference Center, 716 20th Street NW., 5th Floor, Washington, DC. Acting Legal Adviser Mary McLeod will chair the meeting, which will be open to the public up to the capacity of the conference room. The meeting will include discussions on a variety of international law topics.

Members of the public who wish to attend should contact the Office of the Legal Adviser by December 11 at lermanjb@state.gov or 202-776-8442 and provide their name, professional affiliation, address, and phone number. A valid photo ID is required for admission to the meeting. Attendees who require reasonable accommodation should make their requests by December 8. Late requests will be considered but might not be possible to accommodate.

Dated: November 12, 2014.
Jonas Lerman,
Attorney-Adviser, Office of the Legal Adviser, Executive Director, Advisory Committee on International Law, United States Department of State.

[FR Doc. 2014-27403 Filed 11-18-14; 8:45 am]

BILLING CODE 4710-08-P